AGENCY FOR INTERNATIONAL DEVELOPMENT

Board for International Food and Agricultural Development; One Hundred and Fifty-Second Meeting; Notice of Meeting

Pursuant to the Federal Advisory Committee Act, notice is hereby given of the one hundred and fifty-second meeting of the Board for International Food and Agricultural Development (BIFAD). The meeting will be held from 9 a.m. to 5:30 p.m. on October 17, 2007 at the Des Moines Marriott Downtown located at 700 Grand Avenue, Des Moines, Iowa. The meeting venue is in the Marriott Hotel's Iowa Ballroom, Salons A, B, and C located on the second floor.

Dr. Robert Easter, Interim Chairman of BIFAD will open the meeting. Dr. Easter is the Dean, College of Agriculture, Consumer and Environment Sciences at the University of Illinois. Dean Easter was elected by the Board to serve in this capacity upon the April 3, 2007 resignation of Mr. Peter McPherson, former USAID Administrator. The business meeting will begin with a presentation of USAID's FY 2006 Title XII Report to Congress. It is expected that the Board will be looking at ways to enhance Title XII input and collaboration on the preparation of the FY 2007 report. Following the Title XII Report, the Board will discuss operational and management issues concerning the Strategic Partnership for Agricultural Research and Education (SPARE), establishment of a new BIFAD sub-committee, USAID's revisions to the ADS 216 (policy guidance) relative to Title XII implementation, SPARE committee issues, and other actions.

Late in the morning the Board will shift its attention to “Big Picture” thinking when it discusses ideas and plans for defining BIFAD's Strategic Direction in 2008. Critical to this will be the role of BIFAD in supporting USAID in collaboration with the U.S. university network to address priority agricultural issues in the context of transformational development. The Board will be re-visiting its earlier resolution with regard to implementing recommendations advanced in the special study conducted by former USAID Assistant Administrator Richard E. Bissell entitled: “Implementation of Title XII: Report to the BIFAD (June 2006)”. It is expected that the Board will re-affirm its commitment to advancing the recommendations made in the Bissell Report.

Following the executive luncheon, which is closed to the public, the Board will continue its discussion on defining the Board's action agenda for 2008. The Board will be entertaining comments from the audience on identification of critical priorities for international agriculture. It is the Board's intention to formulate several key recommendations which can be presented to the USAID Administrator. Incorporated into the afternoon deliberations will be discussion on several special initiatives including: facilitation of a Conference of Deans of Agriculture; conducting a study on “Defining a Title XII Activity”; and ideas related to formulating a new Center of Excellence for Technology Adaptation in Africa with possible links to the new U.S. military command AFRICOM.

After a mid-afternoon break the Board meeting shifts to several policy oriented presentations. First, Catherine Bertini, Professor of Public Administration, Maxwell School, Syracuse University will present a report on: “U.S. Funding for Higher Education in sub-Saharan Africa: A Case Study.” Then in keeping with the theme of the World Food Prize symposium, there will be two papers presented on implications of Biofuels to development in Africa. These presentations, with open public discussion, will be given by Dr. Kenneth Cassman, Professor, Agronomy & Horticulture, University of Nebraska and Dr. Youba Sokona, executive secretary, Sahara & Sahel Observatory, Tunis, Tunisia.

The Board meeting is free and open to the public. Discussion and comments from the audience are especially welcome. Those wishing to attend the meeting or obtain additional information about BIFAD should contact Dr. Ronald S. Senykoff, the Designated Federal Officer for BIFAD. Write him in care of the U.S. Agency for International Development, Ronald Reagan Building, Office of Agriculture, Bureau for Economic Growth, Agriculture and Trade, 1300 Pennsylvania Avenue, NW., Room 2.11-085, Washington, DC 20523-2110 or telephone him at (202) 712-0218 or fax (202) 216-3010.

Ronald S. Senykoff,
USAID Designated Federal Officer for BIFAD, Office of Agriculture and Food Security, Bureau for Economic Growth, Agriculture & Trade, U.S. Agency for International Development.

[FR Doc. E7-19396 Filed 10-1-07; 8:45 am]

BILLING CODE 6116-01-P